NUCLEAR REGULATORY COMMISSION

[NRC-2023-0109]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by July 13, 2023. A request for a hearing or petitions for leave to intervene must be filed by August 14, 2023. This monthly notice includes all amendments issued, or proposed to be issued, from April 28, 2023, to May 24, 2023. The last monthly notice was published on May 16, 2023.

ADDRESSES: You may submit comments by any of the following methods:

• Federal Rulemaking Website: Go to https://www.regulations.gov and search for Docket ID NRC-2023-0109. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118; email: Karen.Zeleznock@nrc.gov.

SUPPLEMENTARY INFORMATION:

I. Obtaining Information and Submitting Comments

A. Obtaining Information

Please refer to Docket ID NRC-2023-0109, facility name, unit number(s), docket number(s), application date, and subject when contacting the NRC about the availability of information for this action. You may obtain publicly available information related to this action by any of the following methods:

• Federal Rulemaking Website: Go to https://www.regulations.gov and search for Docket ID NRC-2023-0109.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0109, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Arizona Public Service Company, et al; Palo Verde Nuclear Generating Station, Units 1, 2, and 3; Maricopa County, AZ
Docket Nos | 50-528, 50-529, 50-530.
Application date | May 12, 2023.
ADAMS Accession No | ML23132A339.
Location in Application of NSHC | Pages 4-6 of the Enclosure.
Brief Description of Amendments | The proposed amendments would revise Technical Specification (TS) 3.3.11, “Remote Shutdown System,” to adopt Technical Specification Task Force (TSTF) Traveler TSTF-266-A, “Eliminate the Remote Shutdown System Table of Instrumentation and Controls,” for Palo Verde Nuclear Generating Station, Units 1, 2, and 3. TS 3.3.11 provides details for the instrumentation that supports remote shutdown system operability. The specific functions are listed in Table 3.3.11-1, “Remote Shutdown System Instrumentation and Controls.” The proposed changes would eliminate this table and relocate it to the TS bases.
Proposed Determination | NSHC.
Name of Attorney for Licensee, Mailing Address | Carey Fleming, Senior Counsel, Pinnacle West Capital Corporation, 500 N 5th Street, MS 8695, Phoenix, AZ 85004.
NRC Project Manager, Telephone Number | Siva Lingam, 301-415-1564.
Constellation Energy Generation, LLC; Calvert Cliffs Nuclear Power Plant, Unit 1; Calvert County, MD
Docket No | 50-317.
Application date | February 21, 2023.
ADAMS Accession No | ML23052A063.
Location in Application of NSHC | Pages 9-11 of Attachment 1.
Brief Description of Amendment | The proposed change would clarify the areal density testing corrective actions and modify the weight and visual acceptance criteria of the carborundum samples located in the Calvert Cliffs Nuclear Power Plant (CCNPP), Unit 1, spent fuel pool tested in accordance with the long-term coupon surveillance (LTCS) program as approved in Amendment 288. The LTCS program verifies that the carborundum degradation rates assumed in CCNPP analyses to prove subcriticality, remain valid.
Proposed Determination | NSHC.
Name of Attorney for Licensee, Mailing Address | Jason Zorn, Associate General Counsel, Constellation Energy Generation, 101 Constitution Ave. NW, Suite 400 East, Washington, DC 20001.
NRC Project Manager, Telephone Number | Daniel King, 301-415-1233.
Duke Energy Progress, LLC; Brunswick Steam Electric Plant, Units 1 and 2; Brunswick County, NC; Duke Energy Carolinas, LLC; Catawba Nuclear Station, Units 1 and 2; York County, SC; Duke Energy Progress, LLC; Shearon Harris Nuclear Power Plant, Unit 1; Wake and Chatham Counties, NC; Duke Energy Carolinas, LLC; McGuire Nuclear Station, Units 1 and 2; Mecklenburg County, NC; Duke Energy Carolinas, LLC; Oconee Nuclear Station, Units 1, 2, and 3; Oconee County, SC; Duke Energy Progress, LLC; H. B. Robinson Steam Electric Plant, Unit No. 2; Darlington County, SC
Docket Nos | 50-325, 50-324, 50-413, 50-414, 50-400, 50-369, 50-370, 50-269, 50-270, 50-287, 50-261.
Application date | February 16, 2023.
ADAMS Accession No | ML23047A004.
Location in Application of NSHC | Pages 9-10 of Enclosure 1.
Brief Description of Amendment | The proposed amendments would allow Duke Energy Progress, LLC and Duke Energy Carolinas, LLC to revise technical specifications to adopt Technical Specifications Task Force 554, Revision 1, “Revise Reactor Coolant Leakage Requirements” for Brunswick Steam Electric Plant, Units 1 and 2; Catawba Nuclear Station, Units 1 and 2; Shearon Harris Nuclear Power Plant, Unit 1; McGuire Nuclear Station, Units 1 and 2; Oconee Nuclear Station, Units 1, 2, and 3; and H. B. Robinson Steam Electric Plant, Unit 2. The proposed amendments would revise the technical specifications definition of “Leakage,” clarify the requirements when pressure boundary leakage is detected and would add a Required Action when pressure boundary leakage is identified.
Proposed Determination | NSHC.
Name of Attorney for Licensee, Mailing Address | Tracey Mitchell LeRoy, Deputy General Counsel, Duke Energy Corporation, 4720 Piedmont Row Dr., Charlotte, NC 28210.
NRC Project Manager, Telephone Number | Shawn Williams, 301-415-1009.
Duke Energy Progress, LLC; Shearon Harris Nuclear Power Plant, Unit 1; Wake and Chatham Counties, NC
Docket No | 50-400.
Application date | February 7, 2023.
ADAMS Accession No | ML23038A186.
Location in Application of NSHC | Pages 4-5 of Enclosure 1.
Brief Description of Amendment | The proposed amendment revises the Shearon Harris Nuclear Power Plant, Unit 1 Renewed Facility Operating License and technical specifications (TSs) to make administrative changes. Specifically, the proposed amendment would revise the TSs to remove the reference to Duke Energy procedure EGR-NGGC-0153, “Engineering Instrument Setpoints.” The proposed amendment would also remove the reference to, “[Transamerica Delaval, Inc.] TDI Diesel Engine Requirements,” in the Renewed Facility Operating License.
Proposed Determination | NSHC.
Name of Attorney for Licensee, Mailing Address | Tracey Mitchell LeRoy, Deputy General Counsel, Duke Energy Corporation, 4720 Piedmont Row Dr., Charlotte, NC 28210.
NRC Project Manager, Telephone Number | Demetrius Murray, 301-415-7646.
Energy Harbor Nuclear Corp. and Energy Harbor Nuclear Generation LLC; Beaver Valley Power Station, Units 1 and 2; Beaver County, PA
Docket Nos | 50-334, 50-412.
Application date | February 14, 2023.
ADAMS Accession No | ML23045A144.
Location in Application of NSHC | Pages 10-11 of Attachment.
Brief Description of Amendments | The amendments propose a permanent exemption from a requirement of Appendix H, Section IV. A to 10 CFR part 50, “Reactor Vessel Material Surveillance Program Requirements,” for Beaver Valley Power Station, Units1 and 2, to submit a summary technical report to the NRC within 18 months of withdrawal for capsule A, a supplemental capsule.
Proposed Determination | NSHC.
Name of Attorney for Licensee, Mailing Address | Rick Giannantonio, General Counsel, Energy Harbor Nuclear Corp., 168 E Market Street, Akron, OH 44308-2014.
NRC Project Manager, Telephone Number | Daniel King, 301-415-1233.
Energy Northwest; Columbia Generating Station; Benton County, WA
Docket No | 50-397.
Application date | March 27, 2023.
ADAMS Accession No | ML23086C103.
Location in Application of NSHC | Pages 4-5 of Enclosure 1.
Brief Description of Amendment | The proposed amendment would adopt Technical Specifications Task Force (TSTF) Traveler TSTF-541, Revision 2, “Add Exceptions to Surveillance Requirements for Valves and Dampers Locked in the Actuated Position,” which is an approved change to the Standard Technical Specifications, into the Columbia Generating Station Technical Specifications. The amendment would modify certain surveillance requirements (SRs) by adding exceptions to consider the SR met when automatic valves or dampers are locked, sealed, or otherwise secured in the actuated position.
Proposed Determination | NSHC.
Name of Attorney for Licensee, Mailing Address | Ryan Lukson, Legal Service Supervisor, Energy Northwest, MD 1020, P.O. Box 968, Richland, WA 99352.
NRC Project Manager, Telephone Number | Mahesh Chawla, 301-415-8371.
PSEG Nuclear LLC; Hope Creek Generating Station; Salem County, NJ
Docket No | 50-354.
Application date | April 18, 2023.
ADAMS Accession No | ML23108A035.
Location in Application of NSHC | Pages 7-9 of the Enclosure.
Brief Description of Amendment | The amendment proposes to modify the operation of safety related heating, ventilation, and air conditioning (HVAC) trains as described in the updated final safety analysis report for Hope Creek Generating Station. The proposed change modifies a portion of the trip and standby start logic for the safety related HVAC trains from an automatic function to a manual operator action.
Proposed Determination | NSHC.
Name of Attorney for Licensee, Mailing Address | Francis Romano, PSEG—Services Corporation, 80 Park Plaza, T-10, Newark, NJ 07101.
NRC Project Manager, Telephone Number | James Kim, 301-415-4125.
PSEG Nuclear LLC; Hope Creek Generating Station; Salem County, NJ; PSEG Nuclear LLC; Salem Nuclear Generating Station, Unit Nos. 1 and 2; Salem County, NJ
Docket Nos | 50-354, 50-272, 50-311.
Application date | April 21, 2023.
ADAMS Accession No | ML23111A103.
Location in Application of NSHC | Pages 4-5 of the Enclosure.
Brief Description of Amendments | The proposed amendments would revise the Hope Creek Generating Station and Salem Nuclear Generating Station, Units 1 and 2, technical specifications (TS) to remove TS Section 5.5, Meteorological Tower Location. The proposed amendments would remove the reference to the figures removed from the TS by the previously approved amendments.
Proposed Determination | NSHC.
Name of Attorney for Licensee, Mailing Address | Francis Romano, PSEG—Services Corporation, 80 Park Plaza, T-10, Newark, NJ 07101
NRC Project Manager, Telephone Number | James Kim, 301-415-4125.
Southern Nuclear Operating Company, Inc.; Vogtle Electric Generating Plant, Units 1 and 2; Burke County, GA
Docket Nos | 50-424, 50-425.
Application date | April 11, 2023.
ADAMS Accession No | ML23101A159.
Location in Application of NSHC | Pages E-10 to E-12 of the Enclosure.
Brief Description of Amendments | The proposed amendments would revise Technical Specifications (TS) 2.1.1, “Reactor Coolant Safety Limits,” TS 3.3.1, “Reactor Trip System (RTS) Instrumentation,” TS 3.4.1, “Reactor Coolant System (RCS) Pressure, Temperature, and Flow Departure from Nucleate Boiling (DNB) Limits,” and TS 5.6.5, “Core Operating Limits Report (COLR),” to adopt most of the TS and COLR changes described in Appendix A and Appendix B of Westinghouse topical report WCAP-14483-A (ADAMS Accession No. ML020430092), to relocate several cycle-specific parameter limits from the TS to the COLR. The proposed amendments would adopt TSTF-339-A, “Relocate Technical Specification parameters to the COLR consistent with WCAP-14483” (ADAMS Accession No. ML003723269). The proposed amendments change Vogtle Electric Generating Plant, Units 1 and 2, TS 5.6.5 to include WCAP-8745-P-A and WCAP-11397-P-A, and to revise the TS applicability for the WCAP-9272-P-A, in the list of the NRC approved methodologies used to develop the cycle specific COLR. Also, the proposed amendments would make an administrative revision to an equation in TS 3.3.1.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
STP Nuclear Operating Company; South Texas Project, Units 1 and 2; Matagorda County, TX
Docket No(s) | 50-498, 50-499.
Application date | March 30, 2023.
ADAMS Accession No | ML23089A204.
Location in Application of NSHC | Pages 24-25 of the Enclosure.
Brief Description of Amendments | The proposed amendments would revise the alternative source term dose calculation for the main steam line break and the locked rotor accident. The reanalysis uses the asymmetric natural circulation cooldown thermohydraulic analyses, various radiation transport assumptions, and the current licensing basis source term and meteorological data to evaluate the dose effects of an extended cooldown on the existing accident analyses.
Proposed Determination | NSHC.
Name of Attorney for Licensee, Mailing Address | Rachel L. Jackson, General Counsel and General Manager Employee Relations, STP Nuclear Operating Company, P.O. Box 289, Wadsworth, TX 77483.
NRC Project Manager, Telephone Number | Dennis Galvin, 301-415-6256.
TMI-2 Solutions, LLC; Three Mile Island Nuclear Station, Unit 2; Londonderry Township, Dauphin County, PA
Docket No | 50-320.
Application date | February 22, 2023, as supplemented by letter dated May 1, 2023.
ADAMS Accession No | ML23058A064, ML23121A249.
Location in Application of NSHC | Pages 6-8 of Attachment 1.
Brief Description of Amendment | In the proposed license amendment request (LAR), TMI-2 Solutions states that the LAR is intended to support applicable historic and cultural reviews regarding the TMI-2 owned National Register of Historic Places (NRHP)-eligible buildings in anticipation of the eventual and necessary physical demolition of the facility to be performed in accordance with the TMI-2 decommissioning project schedule described in the Post-Shutdown Decommissioning Activities Report, Revision 5 (PSDAR), (ADAMS Accession No. ML22306A051). TMI-2 Solutions explains in the LAR, that physical demolition of the TMl-2 Solutions owned buildings previously deemed eligible for the NRHP could result in an environmental impact not bounded by the conclusions in the Decommissioning Generic Environmental Impact Statement (NUREG-0586, Supplement 1, Vol. 1) (ADAMS Accession No. ML023470304) with regard to cultural, historic, and archaeological resources if appropriate mitigation is not developed in consultation with the Pennsylvania State Historic Preservation Office.
Proposed Determination | NSHC.
Name of Attorney for Licensee, Mailing Address | Russ Workman, General Counsel, Energy Solutions, 299 South Main Street, Suite 1700, Salt Lake City, UT 84111.
NRC Project Manager, Telephone Number | Amy Snyder, 301-415-6822.
Union Electric Company; Callaway Plant, Unit 1; Callaway County, MO
Docket No | 50-483.
Application date | March 29, 2023.
ADAMS Accession No | ML23088A118 (package).
Location in Application of NSHC | Pages 6-7 of the Enclosure.
Brief Description of Amendment(s) | The proposed amendment would revise the technical specifications (TSs) to modify Section 3.8.3, “Diesel Fuel Oil, Lube Oil, and Starting Air.” Specifically, TS 3.8.3 would be revised such that the numerical volume requirements/limits specified for stored diesel fuel oil and lube oil inventory, as specified in the limiting condition for operation, actions, and surveillance requirements for TS 3.8.3, would be replaced with descriptive “7 day” and “6 day” supply requirements/limits where applicable. The proposed changes are consistent with Technical Specifications Task Force (TSTF) Traveler TSTF-501-A, Revision 1, “Relocate Stored Fuel Oil and Lube Oil Volume Values to Licensee Control.”
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Dominion Energy Nuclear Connecticut, Inc.; Millstone Power Station, Units 2 and 3; New London County, CT; Dominion Energy South Carolina, Inc.; Virgil C. Summer Nuclear Station, Unit 1, Fairfield County, SC; Virginia Electric and Power Company, Dominion Nuclear Company; North Anna Power Station, Units 1 and 2; Louisa County, VA; Virginia Electric and Power Company; Surry Power Station, Unit Nos. 1 and 2; Surry County, VA
Docket Nos | 50-336, 50-423, 50-395, 50-338, 50-339, 50-280, 50-281.
Amendment Date | May 1, 2023.
ADAMS Accession No | ML23072A089.
Amendment Nos | 346 (Millstone, Unit 2), 286 (Millstone, Unit 3), 294 (North Anna, Unit 1), 277 (North Anna, Unit 2), 311 (Surry, Unit 1), 311 (Surry, Unit 2), and 225 (Summer).
Brief Description of Amendments | The amendments revised the technical specifications (TSs) to adopt Technical Specifications Task Force (TSTF) Traveler TSTF-554, “Revise Reactor Coolant Leakage Requirements,” for the Millstone Power Station Units 2 and 3, Surry Power Station Unit Nos. 1 and 2, North Anna Power Station Units 1 and 2, and V. C. Summer Nuclear Station Unit 1. The amendments revised the TS definition of “Leakage,” clarified the requirements when pressure boundary leakage is detected and added a Required Action when pressure boundary leakage is identified, as described in the amendment request.
Public Comments Received as to Proposed NSHC (Yes/No) | No.
Energy Harbor Nuclear Corp. and Energy Harbor Nuclear Generation LLC; Beaver Valley Power Station, Units 1 and 2; Beaver County, PA
Docket Nos | 50-334, 50-412.
Amendment Date | May 22, 2023.
ADAMS Accession No | ML23102A147.
Amendment Nos | 321 (Unit 1), 211 (Unit 2).
Brief Description of Amendments | The amendments revised the Beaver Valley Power Station Technical Specifications to add a limiting condition for operation titled “Decay Time” prohibiting movement of fuel or over fuel that has occupied part of a critical reactor core within the previous 100 hours.
Public Comments Received as to Proposed NSHC (Yes/No) | No.
Northern States Power Company—Minnesota; Prairie Island Nuclear Generating Plant, Units 1 and 2; Goodhue County, MN; Northern States Power Company; Monticello Nuclear Generating Plant; Wright County, MN
Docket Nos | 50-263, 50-282, 50-306.
Amendment Date | March 31, 2023.
ADAMS Accession No | ML22357A100.
Amendment Nos | Monticello—211; Prairie Island, 242 (Unit 1), 230 (Unit 2).
Brief Description of Amendments | The amendments revised the Monticello Nuclear Generating Plant and Prairie Island Nuclear Generating Plant, Units 1 and 2, emergency plans, which includes a Corporate Offsite Emergency Plan, to create a new Xcel Energy Standard Emergency Plan. In addition, the amendments approved a consolidated Emergency Operations Facility (EOF) replacing the existing Monticello and Prairie Island, Units 1 and 2, EOF and their common back-up EOF.
Public Comments Received as to Proposed NSHC (Yes/No) | No.
PSEG Nuclear LLC; Salem Nuclear Generating Station, Units 1 and 2; Salem County, NJ
Docket Nos | 50-272, 50-311.
Amendment Date | May 2, 2023.
ADAMS Accession No | ML23081A466.
Amendment Nos | 346 (Unit 1), 327 (Unit 2).
Brief Description of Amendments | The amendments revised the Salem Nuclear Generating Station, Units 1 and 2, Technical Specification Action 3.8.1.1.b.4 to extend the allowed outage time for an inoperable emergency diesel generator from 72 hours to 14 days.
Public Comments Received as to Proposed NSHC (Yes/No) | No.
PSEG Nuclear LLC; Salem Nuclear Generating Station, Unit 2; Salem County, NJ
Docket No | 50-311.
Amendment Date | May 9, 2023.
ADAMS Accession No | ML23096A184.
Amendment No | 328.
Brief Description of Amendment | The amendment revised the technical specifications by relocating the pressure-temperature (P-T) limits for the reactor pressure vessel to a licensee-controlled pressure and temperature limits report (PTLR) and replacing the existing reactor vessel heatup and cooldown rate limits and the P-T limit curves with references to the PTLR. The amendment also updated the existing P-T limits to extend their applicability through the period of extended operation to 50 effective full-power years.
Public Comments Received as to Proposed NSHC (Yes/No) | No.
SHINE Medical Technologies, LLC; SHINE Medical Isotope Production Facility; Janesville, WI
Docket No | 50-608.
Amendment Date | May 5, 2023.
ADAMS Accession No | ML23087A227.
Amendment No | No. 4.
Brief Description of Amendment | The U.S. Nuclear Regulatory Commission (the Commission) has issued Amendment No. 4 to Construction Permit No. CPMIF-001 for the SHINE Technologies, LLC (SHINE) Medical Isotope Production Facility. This amendment adds one new license condition, 3.G, and revises the Commission's finding 1.K related to the construction permit in response to the application dated October 6, 2022 (ADAMS Accession No. ML22279A951), as supplemented by letter dated February 17, 2023 (ADAMS Accession No. ML23048A244). This amendment allows the receipt and possession of contained special nuclear material in the form of neutron detectors to be installed during the construction of the SHINE Medical Isotope Production Facility.
Public Comments Received as to Proposed NSHC (Yes/No) | No.
Southern Nuclear Operating Company, Inc.; Vogtle Electric Generating Plant, Units 3 and 4; Burke County, GA
Docket Nos | 52-025, 52-026.
Amendment Date | April 26, 2023.
ADAMS Accession No | ML23072A186 (package).
Amendment No | 191 (Unit 3), 188 (Unit 4).
Brief Description of Amendments | The amendments changed Technical Specification (TS) Surveillance Requirement (SR) 3.0.3 and the associated TS Bases to allow application of SR 3.0.3 when a surveillance has not been previously performed and to clarify the application of SR 3.0.3. These changes were consistent with NRC approved changes reflected in Technical Specifications Task Force (TSTF) Traveler TSTF-529, “Clarify Use and Application Rules,” for SR 3.0.3.
Public Comments Received as to Proposed NSHC (Yes/No) | No.
Susquehanna Nuclear, LLC and Allegheny Electric Cooperative, Inc.; Susquehanna Steam Electric Station, Units 1 and 2; Luzerne County, PA
Docket Nos | 50-387, 50-388.
Amendment Date | May 17, 2023.
ADAMS Accession No | ML23132A321.
Amendment Nos | 285 (Unit 1), 269 (Unit 2).
Brief Description of Amendment(s) | The NRC staff approved conforming administrative license amendments regarding the indirect license transfer of Susquehanna Steam Electric Station, Units 1 and 2. The amendments revised Renewed Facility Operating License Nos. NPF-14 and NPF-22 to reflect a change in the entity responsible for providing a financial support agreement to Susquehanna Nuclear, LLC, as well as related editorial changes and changes regarding the investment of decommissioning trust funds.
Public Comments Received as to Proposed NSHC (Yes/No) | No.
Tennessee Valley Authority; Browns Ferry Nuclear Plant, Units 1, 2, and 3; Limestone County, AL
Docket Nos | 50-259, 50-260, 50-296.
Amendment Date | May 2, 2023.
ADAMS Accession No | ML23073A290.
Amendment No | 328 (Unit 1), 351 (Unit 2), 311 (Unit 3).
Brief Description of Amendment(s) | The amendments revised the Browns Ferry technical specification requirements to permit the use of Risk-Informed Completion Times in accordance with Technical Specification Task Force (TSTF) Traveler TSTF 505-A, Revision 2, “Provide Risk-Informed Extended Completion Times—RITSTF Initiative 4b.” Additionally, the amendments revised the technical specifications to eliminate second completion times in accordance with Traveler TSTF 439-A, “Eliminate Second Completion Times Limiting Time From Discovery of Failure To Meet an LCO [limiting conditions for operation].”
Public Comments Received as to Proposed NSHC (Yes/No) | No.
Tennessee Valley Authority; Browns Ferry Nuclear Plant, Units 1, 2, and 3; Limestone County, AL
Docket Nos | 50-259, 50-260, 50-296.
Amendment Date | May 16, 2023.
ADAMS Accession No | ML23101A110.
Amendment No(s) | 329 (Unit 1), 352 (Unit 2), 312 (Unit 3).
Brief Description of Amendment(s) | The amendments revised Browns Ferry Nuclear Plant, Units 1, 2, and 3, Technical Specification 4.1, “Site Location,” to remove the description of the site acreage.
Public Comments Received as to Proposed NSHC (Yes/No) | No.
Tennessee Valley Authority; Browns Ferry Nuclear Plant, Units 1, 2, and 3; Limestone County, AL
Docket Nos | 50-259, 50-260, 50-296.
Amendment Date | May 23, 2023.
ADAMS Accession No | ML23116A247.
Amendment Nos | 330 (Unit 1), 353 (Unit 2), 313 (Unit 3).
Brief Description of Amendments | The amendments revised the Browns Ferry Nuclear Plant, Units 1, 2, and 3, Technical Specifications (TS) to delete TS 3.6.3.1, “Containment Atmosphere Dilution (CAD) System,” and the associated TS Bases. The revisions are consistent with Revision 2 to Technical Specification Task Force (TSTF) Traveler, TSTF-478-A, “BWR [Boiling Water Reactor] Technical Specification Changes that Implement the Revised Rule for Combustible Gas Control.”
Public Comments Received as to Proposed NSHC (Yes/No) | No.
Union Electric Company; Callaway Plant, Unit 1; Callaway County, MO
Docket No | 50-483.
Amendment Date | May 10, 2023.
ADAMS Accession No | ML23093A095.
Amendment No | 232.
Brief Description of Amendment | The amendment revised Technical Specification (TS) 3.7.16, “Fuel Storage Pool Boron Concentration”; TS 3.7.17, “Spent Fuel Assembly Storage”; and TS 4.3.1, “Criticality,” to accommodate a simplified storage configuration that establishes two regions in the spent fuel pool and provide a bounding nuclear criticality safety analysis for additional fuel assembly designs.
Public Comments Received as to Proposed NSHC (Yes/No) | No.
Virginia Electric and Power Company; Surry Power Station, Unit Nos. 1 and 2; Surry County, VA
Docket Nos | 50-280, 50-281.
Amendment Date | May 9, 2023.
ADAMS Accession No | ML23061A012.
Amendment Nos | 312 (Unit 1) and 312 (Unit 2).
Brief Description of Amendments | The amendments revised Technical Specification 3.12.E, “Rod Position Indication System and Bank Demand Position Indication System,” for Surry, Units 1 and 2, to adopt certain changes in Technical Specification Task Force Traveler 547, Revision 1, “Clarification of Rod Position Requirements,” that provide alternative TS Actions to allow the position of the rod to be monitored by a means other than movable incore detectors, but with a variation.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Exigent/Emergency Circumstances
Tennessee Valley Authority; Watts Bar Nuclear Plant, Unit 1; Rhea County, TN
Docket No | 50-390.
Amendment Date | May 5, 2023.
ADAMS Accession No | ML23125A220.
Amendment No | 161.
Brief Description of Amendment | The amendment revised Technical Specification Table 1.1-1 to add one-time use information to the footnotes (b) and (c) regarding reactor vessel head closure bolts. The license amendment is issued under emergency circumstances as provided in the provisions of paragraph 50.91(a)(5) of title 10 of the Code of Federal Regulations because of the time-critical nature of the amendment.
Local Media Notice (Yes/No) | No.
Public Comments Requested as to Proposed NSHC (Yes/No) | No.

Dated: June 2, 2023.
For the Nuclear Regulatory Commission.
Bo M. Pham,
Director, Division of Operating Reactor Licensing, Office of Nuclear Reactor Regulation.

[FR Doc. 2023-12245 Filed 6-12-23; 8:45 am]

BILLING CODE 7590-01-P